DEPARTMENT OF LABOR

Occupational Safety and Health Administration

29 CFR Parts 1910, 1926, and 1915

[Docket No. OSHA-H005C-2006-0870]

RIN 1218-AB76

Occupational Exposure to Beryllium

AGENCY: Occupational Safety and Health Administration (OSHA), Department of Labor.

ACTION: Final rule; OMB information collection approval.

SUMMARY: This rule is a technical amendment announcing that OMB has approved the collection of information contained in OSHA's standards for Occupational Exposure to Beryllium and Beryllium Compounds in General Industry, and revising OSHA's regulations to reflect that approval. The OMB approval number is 1218-0267.

DATES: Effective March 7, 2018.

FOR FURTHER INFORMATION CONTACT: Charles McCormick, OSHA, Directorate of Standards and Guidance, U.S. Department of Labor; telephone (202) 693-2222.

SUPPLEMENTARY INFORMATION: OSHA published a final rule on January 9, 2017, amending its existing standards for the Occupational Exposure to Beryllium and Beryllium Compounds. OSHA determined that employees exposed to beryllium at the previous permissible exposure limits face a significant risk of material impairment to their health. The evidence in the record for this rulemaking indicates that workers exposed to beryllium are at increased risk of developing chronic beryllium disease and lung cancer. The final rule establishes new permissible exposure limits of 0.2 micrograms of beryllium per cubic meters (µg/m³) of air as an 8-hour time weighted average and 2.0 µg/m³ as a short term exposure limit determined over a sampling period of 15 minutes. It also includes other provisions to protect employees, such as requirements for exposure assessment, methods for controlling exposure, respiratory protection, personal protective clothing and equipment, housekeeping, medical surveillance, hazard communication, and recordkeeping.

OSHA issued three separate standards (one for general industry, one for shipyards, and one for construction) in order to tailor requirements to the circumstances found in these sectors. The effective date of those standards was March 10, 2017.

Consistent with the Paperwork Reduction Act (PRA) (44 U.S.C. 3501-3520), the Federal Register notice for the Occupational Exposure to Beryllium and Beryllium Compounds final rule states that employers do not have to comply with the collection of information until OMB approves those collections of information, and the Department of Labor publishes a notice in the Federal Register announcing this approval and the control number assigned by OMB to the final rule's collection of information. Under 5 CFR 1320.5(b), an agency may not conduct or sponsor a collection of information unless: (1) The collection of information displays a current, valid OMB control number, and (2) The Agency informs members of the public who are required to respond to the collection of information that they are not required to do so unless the agency displays a currently valid OMB control number for the collection of information.

The revision of these standards is a technical amendment to increase public awareness of OMB's approval of the collection of information. The Agency notes that the public has already had the opportunity to comment on the collections of information, and OMB has approved them. Opportunity for public comment on this final rule is therefore unnecessary.

The final Occupational Exposure to Beryllium and Beryllium Compounds standards impose new collections of information for the purposes of the PRA. The collections of information in the rule are needed to assist employers in identifying and controlling exposure to beryllium and beryllium compounds in the workplace, and to address adverse health effects related to beryllium. OSHA will also use records developed in response to these standards to determine compliance with OSHA standards.

Collections of Information Requirements in the Final Standard
Number | General industry | Construction industry | Maritime industry
1 | § 1910.1024(d)(2) Performance Option | § 1926.1124(d)(2) Performance Option | § 1915.1024(d)(2) Performance Option.
2 | § 1910.1024(d)(3)(i), (ii), and (iii) Scheduled Monitoring Options | § 1926.1124(d)(3)(i), (ii), and (iii) Scheduled Monitoring Options | § 1915.1024(d)(3)(i), (ii), and (iii) Scheduled Monitoring Options.
3 | § 1910.1024(d)(3)(iv), (v), and (vi) Scheduled Monitoring Options | § 1926.1124(d)(3)(iv), (v), and (vi) Scheduled Monitoring Options | § 1915.1024(d)(3)(iv), (v), and (vi) Scheduled Monitoring Options.
4 | § 1910.1024(d)(4) Reassessment of Exposure | § 1926.1124(d)(4) Reassessment of Exposure | § 1915.1024(d)(4) Reassessment of Exposure.
5 | § 1910.1024(d)(6)(i) and (ii) Employee Notification of Assessment Results | § 1926.1124(d)(6)(i) and (ii) Employee Notification of Assessment Results | § 1915.1024(d)(6)(i) and (ii) Employee Notification of Assessment Results.
6 | § 1910.1024(e)(2)(i) and (ii) Demarcation of Beryllium Work Areas and Regulated Areas | § 1926.1124(e)(2) Competent Person | § 1915.1024(e)(2) Regulated Areas—Demarcation.
7 | § 1910.1024(f)(1)(i), (ii), and (iii) Methods of Compliance—Written Exposure Control Plan | § 1926.1124(f)(1)(i), (ii), and (iii) Methods of Compliance—Written Exposure Control Plan | § 1915.1024(f)(1)(i), (ii), and (iii) Methods of Compliance—Written Exposure Control Plan.
8 | § 1910.1024(g)(2) Respiratory Protection Program | § 1926.1124(g) Respiratory Protection Program | § 1915.1024(g) Respiratory Protection Program.
9 | § 1910.1024(h)(2)(v) Personal Protective Clothing and Equipment—Removal and Storage | § 1926.1124(h)(2)(v) Personal Protective Clothing and Equipment—Removal and Storage | § 1915.1024(h)(2)(v) Personal Protective Clothing and Equipment—Removal and Storage.
10 | § 1910.1024(h)(3)(iii) Personal Protective Clothing and Equipment—Cleaning and Replacement | § 1926.1124(h)(3)(iii) Personal Protective Clothing and Equipment—Cleaning and Replacement | § 1915.1024(h)(3)(iii) Personal Protective Clothing and Equipment—Cleaning and Replacement.
11 | § 1910.1024(j)(3)(i) and (ii) Housekeeping—Disposal | § 1926.1124(j)(3) Housekeeping—Disposal | § 1915.1024(j)(3) Housekeeping —Disposal.
12 | § 1910.1024(k)(1), (2), and (3) Medical Surveillance | § 1926.1124(k)(1), (2), and (3) Medical Surveillance | § 1915.1024(k)(1), (2), and (3) Medical Surveillance.
13 | § 1910.1024(k)(4) Medical Surveillance—Information Provided to the PLHCP | § 1926.1124(k)(4) Medical Surveillance—Information Provided to the PLHCP | § 1915.1024(k)(4) Medical Surveillance—Information Provided to the PLHCP.
14 | § 1910.1024(k)(5)(i), (ii), and (iii) Medical Surveillance—Licensed Physician's Written Medical Report for the Employee | § 1926.1124(k)(5)(i), (ii), and (iii) Medical Surveillance— Licensed Physician's Written Medical Report for the Employee | § 1915.1024(k)(5)(i), (ii), and (iii) Medical Surveillance—Licensed Physician's Written Medical Report for the Employee.
15 | § 1915.1024(k)(6) Medical Surveillance—Licensed Physician's Written Medical Opinion for the Employer | § 1926.1124(k)(6) Medical Surveillance— Licensed Physician's Written Medical Opinion for the Employer | § 1915.1024(k)(6) Medical Surveillance—Licensed Physician's Written Medical Opinion for the Employer.
16 | § 1910.1024(k)(7) Medical Surveillance—Referral to the CBD Diagnostic Center | § 1926.1124(k)(7) Medical Surveillance—Referral to the CBD Diagnostic Center | § 1915.1024(k)(7) Medical Surveillance—Referral to the CBD Diagnostic Center.
17 | § 1910.1024(l)(1) and (2) Medical Removal | § 1926.1124(l)(1) and (2) Medical Removal | § 1915.1024(l)(1) and (2) Medical Removal.
18 | § 1910.1024(m)(1) Communication of hazards | § 1926.1124(m)(1) Communication of hazards | § 1915.1024(m)(1) Communication of hazards.
19 | § 1910.1024(m)(2) Warning Signs | N/A | § 1915.1024(m)(2) Warning Signs.
20 | § 1910.1024(m)(3) Warning labels | § 1926.1124(m)(2) Warning labels | § 1915.1024(m)(3) Warning labels.
21 | § 1910.1024(m)(4)(iv) Employee Information | § 1926.1124(m)(3)(iv) Employee Information | § 1915.1024(m)(4)(iv) Employee Information.
22 | § 1910.1024(n)(1)(i), (ii), and (iii) Recordkeeping—Air Monitoring Data | § 1926.1124(n)(1)(i), (ii), and (iii) Recordkeeping—Air Monitoring Data | § 1915.1024(n)(1)(i), (ii), and (iii) Recordkeeping—Air Monitoring Data.
23 | § 1910.1024(n)(2)(i), (ii), and (iii) Recordkeeping—Objective Data | § 1926.1124(n)(2)(i), (ii), and (iii) Recordkeeping—Objective Data | § 1915.1024(n)(2)(i), (ii), and (iii) Recordkeeping—Objective Data.
24 | § 1910.1024(n)(3)(i), (ii), and (iii) Recordkeeping—Medical Surveillance | § 1926.1124(n)(3)(i), (ii), and (iii) Recordkeeping—Medical Surveillance | § 1915.1024(n)(3)(i), (ii), and (iii) Recordkeeping—Medical Surveillance.
25 | § 1910.1024(n)(4)(i) and (ii) Recordkeeping—Training | § 1926.1124(n)(4)(i) and (ii) Recordkeeping—Training | § 1915.1024(n)(4)(i) and (ii) Recordkeeping—Training.
| § 1910.1024(n)(5)(i) and (ii) Recordkeeping—Employee Access to Records | § 1926.1124(n)(5)(i) and (ii) Recordkeeping—Employee Access to Records | § 1915.1024(n)(5)(i) and (ii) Recordkeeping—Employee Access to Records.
| § 1910.1024(n)(6) Recordkeeping—Transfer of Records | § 1926.1124(n)(6) Recordkeeping—Transfer of Records | § 1915.1024(n)(6) Recordkeeping—Transfer of Records.

Title: Beryllium Standards for General Industry (29 CFR 1910.1024), Construction (29 CFR 1926.1124), and Maritime (29 CFR 1915.1024).

Affected Public: Business and other for profit.

Number of Responses: 246,656.

Frequency of Response: Various.

Estimated Total Burden Hours: 194,261.

Estimated Costs (Operation and Maintenance): $46,158,266.

Authority and Signature

Loren Sweatt, Deputy Assistant Secretary of Labor for Occupational Safety and Health, directed the preparation of this rule.

Signed at Washington, DC, on February 26, 2018.
Loren Sweatt,
Deputy Assistant Secretary of Labor for Occupational Safety and Health.

For the reasons stated in the preamble, the Occupational Safety and Health Administration amends 29 CFR parts 1910, 1915, and 1926 as follows:

PART 1910—[AMENDED]

1. The authority citation for part 1910 continues to read as follows:

Authority: 29 U.S.C. 653, 655, 657; Secretary of Labor's Order Numbers 12-71 (36 FR 8754), 8-76 (41 FR 25059), 9-83 (48 FR 35736), 1-90 (55 FR 9033), 6-96 (62 FR 111), 3-2000 (65 FR 50017), 5-2002 (67 FR 65008), 5-2007 (72 FR 31159), 4-2010 (75 FR 55355), or 1-2012 (77 FR 3912), as applicable.

Sections 1910.6, 1910.7, 1910.8 and 1910.9 also issued under 29 CFR 1911. Section 1910.7(f) also issued under 31 U.S.C. 9701, 29 U.S.C. 9a, 5 U.S.C. 553; Public Law 106-113 (113 Stat. 1501A-222); Public Law 11-8 and 111-317; and OMB Circular A-25 (dated July 8, 1993) (58 FR 38142, July 15, 1993).

Subpart A—General

2. Amend section 1910.8 by adding to the table, in the proper numerical sequence, the entry “1910.1024” to read as follows:

§ 1910.8 OMB control numbers under the Paperwork Reduction Act.

* * * * *

29 CFR citation | OMB control No.
* * * * *
1910.1024 | 1218-0267
* * * * *

PART 1915—[AMENDED]

3. The authority citation for part 1915 continues to read as follows:

Authority: 33 U.S.C. 941; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), or 1-2012 (77 FR 3912); 29 CFR part 1911; and 5 U.S.C. 553, as applicable.

Subpart A—General

4. Amend section 1915.8 by adding to the table, in the proper numerical sequence, the entry “1915.1024” to read as follows:

§ 1915.8 OMB control numbers under the Paperwork Reduction Act.

* * * * *

29 CFR citation | OMB control No.
* * * * *
1915.1024 | 1218-0267
* * * * *

* * * * *

PART 1926—[AMENDED]

5. The authority citation for part 1926 is revised to read as follows:

Authority: 40 U.S.C. 3701 et seq.; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008), 5-2007 (72 FR 31160), 4-2010 (75 FR 55355), or 1-2012 (77 FR 3912), as applicable; and 29 CFR part 1911.

Subpart A—General

6. Amend § 1926.5 by adding to the table, in the proper numerical sequence, the entry “1926.1124” to read as follows:

§ 1926.5 OMB control numbers under the Paperwork Reduction Act.

* * * * *

29 CFR citation | OMB control No.
* * * * *
1926.1124 | 1218-0267
* * * * *

* * * * *

[FR Doc. 2018-04579 Filed 3-6-18; 8:45 am]

BILLING CODE 4510-26-P